DEPARTMENT OF TRANSPORTATION

Federal Highway Administration

Notice of Final Federal Agency Actions on Proposed Highway in California

AGENCY: Federal Highway Administration (FHWA), Department of Transportation (DOT).

ACTION: Notice of Limitation on Claims for Judicial Review of Actions by the California Department of Transportation (Caltrans).

SUMMARY: The FHWA, on behalf of Caltrans, is issuing this notice to announce actions taken by Caltrans that are final. The actions relate to a proposed highway project on Interstate 5 (Post Miles 21.3 to PM 30.3) in the Cities of Irvine and Tustin in Orange County, California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before August 27, 2020. If the Federal law that authorizes judicial review of a claim provides a time period of less than 150 days for filing such claim, then that shorter time period still applies.

FOR FURTHER INFORMATION CONTACT: For Caltrans: Brian Liu, Caltrans Division of Environmental Analysis, Specialist Branch, Caltrans District 12, 1750 East 4th Street, Suite 100, Santa Ana, CA 92705; (657) 328-6135 Brian.Liu@dot.ca.gov. For FHWA, contact David Tedrick at (916) 498-5024 or email david.tedrick@dot.gov.

SUPPLEMENTARY INFORMATION: Effective July 1, 2007, the FHWA assigned, and Caltrans assumed, environmental responsibilities for this project pursuant to 23 U.S.C. 327. Notice is hereby given that the Caltrans has taken final agency actions subject to 23 U.S.C. 139(l)(1) by issuing licenses, permits, and approvals for the following highway project in the State of California: The Interstate 5 (I-5) Improvement Project from Interstate 405 (I-405) to State Route 55 (SR-55) proposes to widen Interstate 5 (I 5) between Interstate 405 (I-405) and State Route 55 (SR-55). The project limits on I 5 extend from approximately 0.4 mile (mi) north of the I-5/I-405 interchange (Post Mile [PM] 21.3) to 0.2 mi south of SR-55 (PM 30.3). Caltrans has identified Alternative 2 with Design Variation B (Alternative 2B) as the Preferred Alternative. The actions taken by the Federal agencies, and the laws under which such actions were taken, are described in the Environmental Assessment/Finding of No Significant Impact (EA/FONSI) for the project, approved on January 7, 2020, and in other documents in the Caltrans' project records. The EA/FONSI and other project records are available by contacting Caltrans at the addresses provided above.

This notice applies to all Federal agency decisions as of the issuance date of this notice and all laws under which such actions were taken, including but not limited to:

1. General: National Environmental Policy Act (NEPA) (42 U.S.C. 4321-4351)

2. Clean Air Act (42 U.S.C. 7401-7671 (q))

3. Migratory Bird Treaty Act (16 U.S.C. 703-712)

4. Historic and Cultural Resources: Section 106 of the National Historic Preservation Act of 1966, as amended (16 U.S.C. 470(f) et seq.)

5. Clean Water Act (Section 401) (33 U.S.C. 1251-1377)

6. Federal Endangered Species Act of 1973 (16 U.S.C. 1531-1543)

7. Executive Order 11990—Protection of Wetlands

8. Department of Transportation Act of 1966, Section 4(f) (49 U.S.C. 303)

9. Executive Order 13112—Invasive Species

(Catalog of Federal Domestic Assistance Program Number 20.205, Highway Planning and Construction. The regulations implementing Executive Order 12372 regarding intergovernmental consultation on Federal programs and activities apply to this program.)

Authority: 23 U.S.C. 139(l)(1).

Tashia J. Clemons,
Director, Planning and Environment, Federal Highway Administration, California Division.

[FR Doc. 2020-06538 Filed 3-27-20; 8:45 am]

BILLING CODE 4910-RY-P